DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2006, there were six applications approved. This notice also includes information on four applications, approved in February 2006, inadvertently left off the February 2006 notice. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County of Onslow, Richlands, North Carolina.

Application Number: 06-03-C-00-OAJ.

Application Type: Impose and use a PFC.

PFC Level: $3.00.

Total PFC Revenue Approved in This Decision: $251,469.

Earliest Charge Effective Date: April 1, 2006.

Estimated Charge Expiration Date: January 1, 2009.

Class of Air Carriers Not Required to Collect PFC'S:

None.

Brief Description of Projects Approved for Collection and Use:

Sanitary sewer improvements—design.

Runway 5/23 overlay—design.

Land acquisition—terminal area.

Master plan update.

Police vehicle.

Ramp lighting.

Emergency communications system.

Terminal area sanitation improvements.

PFC application development.

PFC program administration.

Brief Description of Projects Approved for Collection:

Remove and replace loading bridge.

Rehabilitate runway 5/23 overlay.

Aircraft rescue and firefighting equipment.

Relocate terminal access road.

Land acquisition—avigation easement.

Emergency access road improvements.

Decision Date: February 16, 2006.

FOR FURTHER INFORMATION CONTACT: Tracie Klein, Atlanta Airports District Office, (404) 305-7155.

Public Agency: Monroe County Board of County Commissioners, Key West, Florida.

Application Number: 06-11-C-00-EYW.

Application Type: Impose and use a PFC.

PFC Level: $4.50.

Total PFC Revenue Approved in This Decision: $80,000.

Earliest Charge Effective Date: November 1, 2037.

Estimated Charge Expiration Date: December 1, 2037.

Class of Air Carriers Not Required to Collect PFC's:

Air taxi/commercial operators filing FAA Form 1800-31.

Determination: Approved. Based on information contained in the public agency's application, the FAA has determined that the approved class accounts for less than 1 percent of the total annual enplanements at Key West International Airport (EYW).

Brief Description of Projects Approved for Collection at EYW and Use at EYW:

Construct supplemental windcones (two).

Acquire disabled passenger ramp.

Brief Description of Project Approved for Collection at EYW and Use at Marathon Airport:

Construct supplemental windcone (one).

Brief Description of Projects Approved for Use at EYW:

New passenger terminal building.

Terminal roadway and ramps.

Brief Description of Disapproved Project:

Terminal ground level parking.

Determination: Revenue producing parking facilities are not PFC-eligible.

Decision Date: February 22, 2006.

FOR FURTHER INFORMATION CONTACT: Susan Moore, Orlando Airports District Office, (407) 812-6331.

Public Agency: County of Crow Wing and City of Brainerd, Brainerd, Minnesota.

Application Number: 06-04-C-00-BRD.

Application Type: Impose and use a PFC.

PFC Level: $4.50.

Total PFC Revenue Approved in This Decision: $1,437,204.

Earliest Charge Effective Date: July 1, 2006.

Estimated Charge Expiration Date: January 1, 2024.

Class of Air Carriers Not Required to Collect PFC's:

Air taxi/commercial operators.

Determination: Approved. Based on information contained in the public agency's application, the FAA has determined that the approved class accounts for less than 1 percent of the total annual enplanements at Brainerd Lakes Regional Airport.

Brief Description of Projects Approved for Collection and Use:

Audit services for PFC account (2001).

Air carrier terminal security.

Audit services for PFC account (2002).

Install deer fence, phase 1.

Wildlife assessment for runway 16/34.

Preliminary engineering for runway 16/34.

Wetland permits and mitigation.

Rehabilitate portion of terminal parking.

Phase 1 grading, runway 16/34.

Install deer fence, phase 2.

Install emergency generator.

Modify and expand electrical vault building.

Acquire wheel loader.

Audit services for PFC account (2003).

Wildlife hazard management plan.

Land acquisition for runway 16/34.

Construct runway 16/34, phase 2.

Install deer fence, phase 3.

Update airport layout plan.

Construct runway 16/34, phase 3.

Instrument landing system for runway 34.

Runway 34 lighting.

High speed snow plow.

Dedicated sanding truck.

Rehabilitate taxiway 5/23 shoulders.

Runway broom attachment for loader.

Runway vacuum sweeper.

Decision Date: February 23, 2006.

FOR FURTHER INFORMATION CONTACT: Nancy Nistler, Minneapolis Airports District Office, (612) 713-4353.

Public Agency: County of Humbolt, Eureka, California.

Application Number: 06-08-C-00-ACV.

Application Type: Impose and use a PFC.

PFC Level: $4.50.

Total PFC Revenue Approved in This Decision: $1,511,500.

Earliest Charge Effective Date: April 1, 2006.

Estimated Charge Expiration Date: March 1, 2009.

Class of Air Carriers Not Required to Collect PFC's:

Nonscheduled/on-demand air carriers filing FAA Form 1800-31.

Determination: Approved. Based on information contained in the public agency's application, the FAA has determined that the approved class accounts for less than 1 percent of the total annual enplanements at Arcata/Eureka Airport (ACV).

Brief Description of Projects Approved for Collection at ACV and Use at ACV:

Implement airfield safety enhancements.

Terminal area improvements.

Upgrade airfield lighting.

Expand general aviation apron.

Environmental baseline study for runway safety area improvements.

Runway safety area study.

PFC administrative costs.

Brief Description of Project Approved for Collection at ACV and Use at Murray Field:

Prepare environmental assessment.

Brief Description of Project Approved for Collection at ACV and Use at Rohnerville Airport:

Upgrade/install runway and taxiway edge lighting system.

Brief Description of Disapproved Project:

Update master plan.

Determination: The FAA notes that the current master plan has not been implemented and the County of Humboldt has a public review draft of the current plan under final review. Therefore, the FAA concluded that the proposed project did not meet the requirements of paragraph 401.e.(2) of FAA Order 5100.38C, Airport Improvement Program Handbook (June 28, 2005), which specifies that master plan updates be considered every 10 years.

Decision Date: February 24, 2006.

FOR FURTHER INFORMATION CONTACT: Joe Rodriguez, San Francisco Airports District Office, (650) 876-2778, extension 610.

Public Agency: Northwest Regional Airport Commission, Traverse City, Michigan.

Application Number: 06-04-C-00-TVC.

Application Type: Impose and use a PFC.

PFC Level: $4.50.

Total PFC Revenue Approved in This Decision: $4,428,494.

Earliest Charge Effective Date: April 1, 2019.

Estimated Charge Expiration Date: March 1, 2024.

Class of Air Carriers Not Required to Collect PFC's:

Air taxi/commercial operators filing FAA Form 1800-31.

Determination: Approved. Based on information contained in the public agency's application, the FAA has determined that the approved class accounts for less than 1 percent of the total annual enplanements at Cherry Capital Airport.

Brief Description of Projects Approved for Collection and Use:

Passenger terminal cost benefit analysis.

Geotechnical services for south terminal.

Entry vestibule reconfiguration for south terminal.

Blast assessment report for south terminal.

Update airport layout plan to extend runway ends 10 and 28.

Way signage and traffic signal (design).

FAA/air traffic control tower coordination (south terminal).

Entry sign and water feature construction.

Traffic signal new entrance road (design).

Runway safety area study for runway 18/36.

General aviation apron (design).

General aviation apron (construction).

Snow removal equipment sweeper/loader/blower procurement.

Snow removal equipment snow sweeper procurement (vehicle #1).

Aircraft rescue and firefighting building (design).

Snow removal equipment front end loader procurement.

Snow removal equipment snow blower procurement.

Traffic signal and airport road modifications.

Animal control fence (design).

Part 150 master plan update.

Snow removal equipment storage/ sand storage building (design).

Aircraft rescue and firefighting building (construction inspection).

Aircraft rescue and firefighting building (construction).

Aircraft rescue and firefighting building site preparation.

Snow removal equipment plow truck/material spreader procurement.

Snow removal equipment snow sweeper procurement (vehicle #2).

Animal control fence (construction).

Auxiliary wind cones.

Update runway sensor system.

Snow removal equipment spreader procurement documents.

Runway safety area for runway 18/36 (construction).

Aircraft rescue and firefighting 3,000-gallon vehicle procurement.

Old terminal building demolition.

Snow removal equipment storage building site preparation.

PFC application preparation cost reimbursement.

PFC account audit cost reimbursement.

Snow removal equipment storage building (construction).

Decision Date: March 2, 2006.

FOR FURTHER INFORMATION CONTACT: Jason Watt, Detroit Airports District Office, (734) 229-2906.

Public Agency: Lee County Port Authority, Fort Myers, Florida.

Application Number: 06-06-C-00-RSW.

Application Type: Impose and use a PFC.

PFC Level: $4.50.

Total PFC Revenue Approved in This Decision: $6,932,692.

Earliest Charge Effective Date: April 1, 2017.

Estimated Charge Expiration Date: April 1, 2018.

Class of Air Carriers Not Required to Collect PFC's:

Air taxi/commercial operators.

Determination: Approved. Based on information contained in the public agency's application, the FAA has determined that the approved class accounts for less than 1 percent of the total annual enplanements at Southwest Florida International Airport.

Brief Description of Project Approved for Collection and Use at a $4.50 PFC Level:

Rehabilitation of runway 6/24 and taxiway A.

Brief Description of Project Approved for Collection and Use at a $3.00 PFC Level:

PFC implementation.

Decision Date: March 6, 2006.

FOR FURTHER INFORMATION CONTACT: Juan Brown, Orlando Airports District Office, (407) 812-6331.

Public Agency: Tweed-New Haven Airport Authority, New Haven, Connecticut.

Application Number: 06-03-C-00-HVN.

Application Type: Impose and use a PFC.

PFC Level: $4.50.

Total PFC Revenue Approved in This Decision: $663,054.

Earliest Charge Effective Date: May 1, 2006.

Estimated Charge Expiration Date: June 1, 2007.

Class of Air Carriers Not Required to Collect PFC's:

Air taxi/commercial operators.

Determination: Approved. Based on information contained in the public agency's application, the FAA has determined that the approved class accounts for less than 1 percent of the total annual enplanements at Tweed-New Haven Regional Airport.

Brief Description of Projects Approved for Collection and Use:

Runway 14/32 shoulder removal.

Perimeter security.

Pavement crack sealing.

Acquisition of snow plow.

Terminal apron reconstruction.

High intensity runway lights replacement, runway 2/20.

Terminal improvements.

Terminal planning study.

Acquisition of Americans with Disabilities Act ramp/security improvements.

Decision Date: March 9, 2006.

FOR FURTHER INFORMATION CONTACT: Priscilla Scott, New England Region Airports Division, (781) 238-7614.

Public Agency: Monterey Peninsula Airport District, Monterey, California.

Application Number: 06-12-C-00-MRY.

Application Type: Impose and use a PFC.

PFC Level: $4.50.

Total PFC Revenue Approved in This Decision: $1,811,815.

Earliest Charge Effective Date: May 1, 2006.

Estimated Charge Expiration Date: April 1, 2009.

Class of Air Carriers Not Required to Collect PFC's:

Nonscheduled/on-demand air carriers filing FAA Form 1800-31.

Determination: Approved. Based on information contained in the public agency's application, the FAA has determined that the approved class accounts for less than 1 percent of the total annual enplanements at Monterey Peninsula Airport.

Brief Description of Projects Approved for Collection and Use:

Terminal infrastructure improvements.

Residential sound insulation phase IX.

Residential sound insulation phase X.

FOR FURTHER INFORMATION CONTACT: Joe Rodriguez, San Francisco Airports District Office, (650) 876-2778, extension 610.

Public Agency: City of Grand Junction/County of Mesa/Walker Field Public Airport Authority, Grand Junction, Colorado.

Application Number: 06-07-C-00-GJT.

Application Type: Impose and use a PFC.

PFC Level: $4.50.

Total PFC Revenue Approved in This Decision: $6,355,297.

Earliest Charge Effective Date: September 1, 2006.

Estimated Charge Expiration Date: August 1, 2019.

Class of Air Carriers Not Required to Collect PFC's:

None.

Brief Description of Projects Approved for Collection and Use:

Baggage carousel replacement.

Baggage belt improvements and associated ticketing renovations.

Airport access road reconstruction.

PFC application and administration fees.

Decision Date: March 22, 2006.

FOR FURTHER INFORMATION CONTACT: Chris Schaffer, Denver Airports District Office, (303) 342-1258.

Public Agency: Metropolitan Washington Airports Authority, Washington, District of Columbia.

Application Number: 05-06-C-00-DCA.

Application Type: Impose and use a PFC.

PFC Level: $4.50.

Total PFC Revenue Approved in This Decision: $146,603,508.

Earliest Charge Effective Date: February 1, 2008.

Estimated Charge Expiration Date: November 1, 2011.

Class of Air Carriers Not Required to Collect PFC's:

Nonscheduled/on-demand air carriers filing FAA Form 1800-31.

Determination: Approved. Based on information contained in the public agency's application, the FAA has determined that the approved class accounts for less than 1 percent of the total annual enplanements at Ronald Reagan Washington National Airport (DCA).

Brief Description of Projects Approved for Collection at DCA and Use Washington Dulles International Airport (IAD) at a $4.50 PFC Level:

Concourse B west expansion.

Wetland mitigation.

Brief Description of Projects Approved for Collection at DCA and Use at IAD at a $3.00 PFC Level:

North area roads.

Wildlife hazard management.

Decision Date: March 23, 2006.

FOR FURTHER INFORMATION CONTACT: Luis Loarte, Washington Airports District Office, (703) 661-1365.

Amendments to PFC Approvals
Amendment No., city, state | Amendment approved date | Original approved net PFC revenue | Amended approved net PFC revenue | Original estimated charge exp. date | Amended estimated charge exp. date
05-10-C-01-EYW Key West, FL | 02/02/06 | $48,810,445 | $48,730,445 | 09/01/37 | 09/01/37
00-02-C-01-RAP Rapid City, SD | 03/20/06 | 1,791,732 | 1,890,151 | 09/01/03 | 11/01/03

Issued in Washington, DC on May 2, 2006.
Joe Hebert,
Manager, Financial Analysis and Passenger Facility Charge Branch.

[FR Doc. 06-4325 Filed 5-8-06; 8:45 am]

BILLING CODE 4910-13-M